DEPARTMENT OF HOMELAND SECURITY

Coast Guard

33 CFR Part 165

[Docket No. USCG-2018-0470]

Safety Zone, Coast Guard Exercise Area, Hood Canal, Washington

AGENCY: Coast Guard, DHS.

ACTION: Notice of enforcement of regulation.

SUMMARY: The Coast Guard will enforce the safety zone around vessels involved in Coast Guard training exercises in Hood Canal, WA from July 9, 2018 through July 13, 2018, unless cancelled sooner by the Captain of the Port. This is necessary to ensure the safety of the maritime public and vessels participating in these exercises. During the enforcement period, entry into this zone is prohibited unless authorized by the Captain of the Port or her Designated Representative.

DATES: The regulations in 33 CFR 165.1339 will be enforced from 8 a.m. on July 9, 2018 through 5 p.m. on July 13, 2018.

FOR FURTHER INFORMATION CONTACT: If you have questions about this notice of enforcement, call or email Petty Officer Zachary Spence, Sector Puget Sound Waterways Management Division, Coast Guard; telephone 206-217-6051, email SectorPugetSoundWWM@uscg.mil.

SUPPLEMENTARY INFORMATION: The Coast Guard will enforce the safety zone around vessels involved in Coast Guard training exercises in Hood Canal, WA set forth in 33 CFR 165.1339, from 8 a.m. on July 9, 2018 through 5 p.m. on July 13, 2018, unless cancelled sooner by the Captain of the Port. Under the provisions of 33 CFR 165.1339, no person or vessel may enter or remain within 500 yards of any vessel involved in Coast Guard training exercises while such vessel is transiting Hood Canal, WA between Foul Weather Bluff and the entrance to Dabob Bay, unless authorized by the Captain of the Port or a Designated Representative. In addition, the regulation requires all vessels to obtain permission for entry during the enforcement period by contacting the on-scene patrol commander on VHF channel 13 or 16, or the Sector Puget Sound Joint Harbor Operations Center at 206-217-6001. Members of the maritime public will be able to identify participating vessels as those flying the Coast Guard Ensign. The COTP may also be assisted in the enforcement of the zone by other federal, state, or local agencies. In addition to this notice of enforcement in the Federal Register, the Coast Guard plans to provide notification of this enforcement period via the Local Notice to Mariners.

Dated: May 22, 2018.
Linda A. Sturgis,
Captain, U.S. Coast Guard, Captain of the Port Puget Sound.

[FR Doc. 2018-11463 Filed 5-25-18; 8:45 am]

BILLING CODE 9110-04-P